MERIT SYSTEMS PROTECTION BOARD

Merit Systems Protection Board (MSPB) Provides Notice of Opportunity To File Amicus Briefs

AGENCY: Merit Systems Protection Board.

ACTION: Notice.

SUMMARY: Pursuant to 5 U.S.C. 7521 and 5 CFR 1201.131, the Merit Systems Protection Board (MSPB) is providing notice of the opportunity to file amicus briefs in the matter of Stella Crumpler v. Department of Defense, MSPB Docket Number DC-0752-09-0033-R-1, 2009 MSPB 233. Crumpler raises the question of whether, pursuant to 5 CFR Part 732, National Security Position, the rule in Department of the Navy v. Egan, 484 U.S. 518, 530-31 (1988), limiting the scope of MSPB review of a removal decision based on the revocation of a security clearance also applies to a removal from a “non-critical sensitive” position due to the employee having been denied continued eligibility for employment in a sensitive position.

Interested parties may submit amicus briefs or other comments on this issue no later than February 16, 2010. Amicus briefs must be filed with the Clerk of the Board. Briefs shall not exceed 15 pages in length. The text shall be double-spaced, except for quotations and footnotes, and the briefs shall be on 8 ½ by 11 inch paper with one inch margins on all four sides.

DATES: All briefs submitted in response to this notice shall be filed with the Clerk of the Board on or before February 16, 2010.

ADDRESSES: All briefs shall be captioned “Stella Crumpler v. Department of Defense” and entitled “Amicus Brief.” Only one copy of the brief need be submitted. Briefs must be filed with the Office of the Clerk of the Board, Merit Systems Protection Board, 1615 M Street, NW., Washington, DC 20419.

FOR FURTHER INFORMATION CONTACT: Matthew Shannon, Deputy Clerk of the Board, (202) 653-7200.

William D. Spencer,
Clerk of the Board.

[FR Doc. 2010-1378 Filed 1-22-10; 8:45 am]

BILLING CODE 7400-01-P